DEPARTMENT OF JUSTICE

Notice of Lodging of Consent Decree Under the Comprehensive Environmental Response, Compensation, and Liability Act

Notice is hereby given that on February 18, 2004, a proposed Consent Decree (“CD”) in United States v. Reunion Industries, Inc., Civil Action No. C-04-0671 (MHP) was lodged with the United States District Court for the Northern District of California.

In this action, the United States sought reimbursement pursuant to the Comprehensive Environmental Response, Compensation, and Liability Act (“CERCLA”), 42 U.S.C. 9607 et seq., of past response costs incurred by EPA in connection with the release or threatened release of hazardous substances at the Gambonini Mercury Mine Site (the “Site”) located in Marin County, California. The CD provides for Reunion Industries, Inc., the successor corporation to Buttes Gas and Oil Co., to settle its liability at the Site for past response costs by paying $100,000 in installments over three years.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Reunion Industries, Inc., D.J. Ref. #90-11-3-07848.

The Consent Decree may be examined at the Office of the United States Attorney, 450 Golden Gate Avenue, San Francisco, California, and at the U.S. Environmental Protection Agency, Region 9, 75 Hawthorne Street, San Francisco, California. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing a request to Tonia Fleetwood, fax no. (202) 514-0097, phone confirmation number (202) 514-1547. In requesting a copy from the Consent Decree Library, please enclose a check in the amount of $5.50 (25 cents per page reproduction cost) payable to the U.S. Treasury.

Ellen M. Mahan,
Assistant Chief, Environmental Enforcement Section, Environment and Natural Resources Division.

[FR Doc. 04-4761 Filed 3-2-04; 8:45 am]

BILLING CODE 4410-15-M